DEPARTMENT OF THE TREASURY

Alcohol and Tobacco Tax and Trade Bureau

[Docket No. TTB-2020-0001]

Proposed Information Collections; Comment Request (No. 79)

AGENCY: Alcohol and Tobacco Tax and Trade Bureau (TTB); Treasury.

ACTION: Notice and request for comments.

SUMMARY: As part of our continuing effort to reduce paperwork and respondent burden, and as required by the Paperwork Reduction Act of 1995, we invite comments on the proposed or continuing information collections listed below in this notice.

DATES: We must receive your written comments on or before September 29, 2020.

ADDRESSES: As described below, you may send comments on the information collections described in this document using the “Regulations.gov” online comment form for this document, or you may send written comments via U.S. mail or hand delivery. We no longer accept public comments via email or fax.

• Internet: To submit comments electronically, use the comment form for this document posted on the “Regulations.gov” e-rulemaking website at https://www.regulations.gov within Docket No. TTB-2019-0001.

• U.S. Mail: Send comments to the Paperwork Reduction Act Officer, Regulations and Rulings Division, Alcohol and Tobacco Tax and Trade Bureau, 1310 G Street NW, Box 12, Washington, DC 20005.

• Hand Delivery/Courier: Delivery comments to the Paper Reduction Act Officer, Regulations and Rulings Division, Alcohol and Tobacco Tax and Trade Bureau, 1310 G Street NW, Suite 400, Washington, DC 20005.

Please submit separate comments for each specific information collection described in this document. You must reference the information collection's title, form or recordkeeping requirement number, and OMB control number (if any) in your comment.

You may view copies of this document, the information collections described in it and any associated instructions, and all comments received in response to this document at https://www.regulations.gov within Docket No. TTB-2019-0001. A link to that docket is posted on the TTB website at https://www.ttb.gov/forms/comment-on-form.shtml. You may also obtain paper copies of this document, the information collections described in it and any associated instructions, and any comments received in response to this document by contacting TTB's Paperwork Reduction Act Officer at the addresses or telephone number shown below.

FOR FURTHER INFORMATION CONTACT: Michael Hoover, Regulations and Rulings Division, Alcohol and Tobacco Tax and Trade Bureau, 1310 G Street NW, Box 12, Washington, DC 20005; 202-453-1039, ext. 135; or informationcollections@ttb.gov (please do not submit comments to this email address).

SUPPLEMENTARY INFORMATION:

Request for Comments

The Department of the Treasury and its Alcohol and Tobacco Tax and Trade Bureau (TTB), as part of their continuing effort to reduce paperwork and respondent burden, invite the general public and other Federal agencies to comment on the proposed or continuing information collections described below in this notice, as required by the Paperwork Reduction Act of 1995 (44 U.S.C. 3501 et seq.).

Comments submitted in response to this notice will be included or summarized in our request for Office of Management and Budget (OMB) approval of the relevant information collection. All comments are part of the public record and subject to disclosure. Please do not include any confidential or inappropriate material in your comments.

We invite comments on: (a) Whether an information collection is necessary for the proper performance of the agency's functions, including whether the information has practical utility; (b) the accuracy of the agency's estimate of the information collection's burden; (c) ways to enhance the quality, utility, and clarity of the information collected; (d) ways to minimize the information collection's burden on respondents, including through the use of automated collection techniques or other forms of information technology; and (e) estimates of capital or start-up costs and costs of operation, maintenance, and purchase of services to provide the requested information.

An agency may not conduct or sponsor, and a person is not required to respond to, a collection of information unless the collection of information has a valid OMB control number.

Information Collections Open for Comment

Currently, we are seeking comments on the following forms, letterhead applications or notices, recordkeeping requirements, questionnaires, or surveys:

OMB Control No. 1513-0005

Title: Letterhead Applications and Notices Filed by Brewers, TTB REC 5130/2; and Brewer's Notice, TTB F 5130.10.

TTB Form Number: TTB F 5130.10.

TTB Recordkeeping Number: TTB REC 5130/2.

Abstract: The Internal Revenue Code (IRC) at 26 U.S.C. 5401 requires brewers to file a notice of intent to operate a brewery, containing such information as prescribed by regulation. Under this authority, TTB requires brewery applicants to submit TTB F 5130.10, Brewer's Notice, which collects information similar to that provided on a permit application. Under the TTB regulations, the brewer maintains the approved Brewer's Notice and all associated documents at the brewery premises available for inspection. Under the TTB regulations promulgated pursuant to the IRC, brewers submit letterhead applications or notices for authorization to conduct certain activities, such as to use a brewery for purposes other than those authorized (see 26 U.S.C. 5411) or to operate a pilot brewery (see 26 U.S.C. 5417). Letterhead applications and notices are necessary to identify brewery activities so that TTB may ensure that proposed operations will not jeopardize the revenue and will comply with the IRC and the TTB regulations.

Current Actions: While there are program and adjustments associated with this information collection, TTB is submitting it for extension purposes only. As for program changes, TTB no longer requires respondents to submit certain attachments to a Brewer's Notice, TTB F 5130.10 or its Permits Online (PONL) equivalent: Trade Name Registration, Certificate to Transact Business in a Foreign State, Environmental Information (TTB F 5000.29), and Supplemental Information on Water Quality Considerations (TTB F 5000.30). In addition, TTB has made other minor editorial changes to the Brewer's Notice form and its PONL equivalent. As for adjustments, due to changes in agency estimates resulting from continued growth in the number of breweries in the United States, TTB is increasing the total number of annual respondents, responses, and burden hours reported for this information collection.

Type of Review: Extension of a currently approved collection.

Affected Public: Businesses or other for-profits.

Estimated Annual Burden

• Number of Respondents: 11,800.

• Average Responses per Respondent: 4.

• Number of Responses: 47,200.

• Average per-response Burden: 0.8 hours.

• Total Burden: 37,760 hours.

OMB Control No. 1513-0036

Title: Signing Authority for Corporate and LLC Officials.

TTB Form Number: TTB F 5100.1.

Abstract: Under the IRC at 26 U.S.C. 6061, any return, statement, or other document required to be made under the internal revenue laws or regulations “shall be signed in accordance with forms or regulations” prescribed by the Secretary of the Treasury. Corporations and limited liability companies (LLCs) use TTB F 5100.1 or its electronic equivalent to identify specific corporate or LLC officials or employees, by name or by position title, authorized by the entity's articles of incorporation, bylaws, or governing officials to act on behalf of, or sign documents for, the entity in TTB matters. This information collection is necessary to ensure that only duly authorized individuals sign documents submitted to TTB on behalf of corporations or LLCs.

Current Actions: There are no program changes or adjustments associated with this information collection, and TTB is submitting it for extension purposes only.

Type of Review: Extension of a currently approved collection.

Affected Public: Businesses or other for-profits.

Estimated Annual Burden

• Number of Respondents: 5,300.

• Average Responses per Respondent: 1 (one).

• Number of Responses: 5,300.

• Average per-response Burden: 0.2 hours.

• Total Burden: 1,060 hours.

OMB Control No. 1513-0051

Title: Application for an Alcohol Fuel Producer Permit Under 26 U.S.C. 5181.

TTB Form Number: TTB F 5110.74.

Abstract: Under the authority of the IRC at 26 U.S.C. 5181(a)(1), persons wishing to establish a distilled spirits plant for the sole purpose of producing and receiving distilled spirits for fuel use must provide an application and bond as the Secretary may prescribe by regulation. Under this authority, TTB has issued regulations concerning the establishment of such alcohol fuel plants (AFPs). These regulations require, among other things, that a person wishing to establish an AFP submit an application for an alcohol fuel producer permit using form TTB F 5110.74. This application form and its required supporting documents describe, among other things, the person(s) applying for the permit, the proposed AFP's location, its stills and the type(s) of materials to be distilled, the size category of the operation (small, medium, or large) based on the annual amount of alcohol fuel to be produced, and the security measures to be taken to protect the spirits from diversion and theft. The application also must include a diagram of the plant premises. In addition, existing alcohol fuel producer permit holders use TTB F 5110.74 to make certain amendments to their permit information. The information required on the alcohol fuel producer permit application is necessary to protect the revenue since, when first produced, distilled spirits made at AFPs are potable and are thus subject could to the Federal distilled spirits excise tax imposed by the IRC at 26 U.S.C. 5001. Only when denatured for fuel use as required by 26 U.S.C. 5181(e) may spirits be withdrawn from the AFP free of tax, as authorized by 26 U.S.C. 5214(a)(12).

Current Actions: There are no program changes or adjustments associated with this information collection, and TTB is submitting it for extension purposes only.

Type of Review: Extension of a currently approved collection.

Affected Public: Businesses or other for-profits, farms; Individuals or households.

Estimated Annual Burden

• Number of Respondents: 251.

• Average Responses per Respondent: 1 (one).

• Number of Responses: 251.

• Average per-response Burden: 1.5 hours.

• Total Burden: 377 hours.

Dated: July 28, 2020.
Amy R. Greenberg,
Director, Regulations and Rulings Division.

[FR Doc. 2020-16619 Filed 7-30-20; 8:45 am]

BILLING CODE 4810-31-P